DEPARTMENT OF COMMERCE

National Oceanic and Atmospheric Administration

50 CFR Part 648

[I.D. 020200A]

Fisheries of the Northeastern United States; Atlantic Herring Fishery; Scoping Process

AGENCY: National Marine Fisheries Service (NMFS), National Oceanic and Atmospheric Administration (NOAA), Commerce.

ACTION: Notice of intent to prepare a supplemental environmental impact statement (SEIS) and notice of scoping process; request for comments.

SUMMARY: The New England Fishery Management Council (Council) announces its intent to prepare an amendment to the Fishery Management Plan (FMP) for Atlantic Herring (Clupea harengus) and to prepare an SEIS, if necessary, to analyze the impacts of any proposed management measures. The Atlantic States Marine Fisheries Commission (Commission), under the authority of the Atlantic Coastal Fisheries Cooperative Management Act, may also prepare an amendment to its Interstate Fishery Management Plan for Atlantic Sea Herring. The Council and the Commission also formally announce a public process to determine the scope of alternatives to be addressed in the SEIS. The purpose of this notification is to alert the interested public of the commencement of the scoping process and to provide for public participation in compliance with environmental documentation requirements.

DATES: The Council and the Commission will discuss and take scoping comments at public meetings in February 2000. For specific dates and times, see SUPPLEMENTARY INFORMATION. Written scoping comments must be received on or before 5:00 pm., local time, March 13, 2000.

ADDRESSES: The Council and the Commission will take scoping comments at public meetings in Maine, Massachusetts, Rhode Island, and New Jersey. For specific locations, see SUPPLEMENTARY INFORMATION. Written comments and requests for copies of the scoping document and other information should be directed to Paul J. Howard, Executive Director, New England Fishery Management Council, 50 Water Street, Newburyport, MA 01950, telephone (978) 465-0492, or to Jack Dunnigan, Executive Director, Atlantic States Marine Fisheries Commission, 1444 Eye Street NW., Sixth Floor, Washington, DC 20005, telephone (202) 289-6400. The scoping document is accessible electronically via the Internet at http://www.nefmc.org (Council) and http://www.afmsc.org (Commission). Comments may also be sent via facsimile (fax) to (978) 465-3116. Comments will not be accepted if submitted via e-mail or the Internet.

FOR FURTHER INFORMATION CONTACT: Paul J. Howard, Executive Director, New England Fishery Management Council (978) 465-0492.

SUPPLEMENTARY INFORMATION:

Background

The U.S. Atlantic herring fishery is managed as one stock complex along the east coast from Maine to Cape Hatteras, North Carolina, although evidence suggests that at least two separate biological stocks exist. Generally, the resource has been divided into an inshore Gulf of Maine and an offshore Georges Bank/Nantucket Shoals component. Individual spawning aggregations have been identified, such as the Jeffreys Ledge component of the Gulf of Maine stock, but quantitative data on the relative size of the aggregations are lacking. A peer-reviewed assessment of the Atlantic herring coastal stock complex was last conducted in 1998. This assessment indicated that the stock complex was at a high biomass level but was underexploited in 1997. An update of the assessment based on 1998 landings suggests that these conditions still exist in the fishery.

The Council and the Commission adopted management measures for the herring fishery in state and Federal waters in 1999 and NMFS approved most of the management measures contained in the Federal FMP on October 27, 1999. While the Commission's measures have been adopted by the states, the proposed rule to implement the Federal Atlantic Herring FMP will be published in the Federal Register for public comment in the near future. A final rule to implement the Federal FMP will be published shortly after the close of the comment period on the proposed rule. The two management plans contain similar management measures. The plans establish total allowable catches (TACs) levels in each of four management areas. In state waters there are spawning area restrictions (under the Commission plan). Both plans include limits on the size of vessels that can take, catch, or harvest herring. Each plan includes administrative elements such as requirements for vessel, dealer, and processor permits and reporting requirements. A control date of September 16, 1999, was established for the Atlantic herring fishery in Federal waters (64 FR 50266, September 16, 1999). The potential impacts of the control date are discussed in the control date announcement.

While the overall TAC level for herring is more than twice the recent landing levels, the proposed TAC for the inshore Gulf of Maine component is about 60 percent of the landings from this area in 1996 and 1997. Some fishermen believe that harvesting capacity in this area should be restricted to avoid problems that result from excess fishing capacity. One of these problems could be an inefficient “race to fish” as increasing numbers of vessels try to catch herring before the TAC is reached. Additionally, the available TAC in this area will likely be taken before the 2000 fishing year is over. This could disrupt the supply of herring for various markets. As more vessels enter the fishery, more fishermen would likely fish for shorter periods of time in this area. In other management areas, recent catches have not approached the proposed TACs. One objective of the management plan is to distribute fishing effort to all management areas. Catches in Management Area 2 (Cape Cod and south) have been relatively stable over recent years. Catches in Management Area 3 (Georges Bank) increased rapidly to 40 percent of the proposed TAC from 1997 to 1998. These areas could absorb more fishing effort.

Management of many fisheries in the Northeast is complicated by excess fishing capacity, which makes it difficult to reduce fishing mortality to levels necessary for stock rebuilding. The development of a controlled access system for the Atlantic herring fishery that would allow new harvesting capacity to target the offshore areas but would prevent (and for one area slow) the development of excess capacity might solve the problems experienced in these fisheries.

Options Under Consideration

The Council and the Commission are considering a wide range of options for the fishery, from—

(1) Continuing open access in each of the four areas in which the fishery takes place and continuing with the area- specific TACs as the primary control on fishing mortality (the No Action Alternative); to

(2) Introducing one of a variety of controlled access systems in one or more of these areas, coupled with related controls on fishing mortality.

The capacity controls under consideration may work in the following ways: The number of vessels permitted to fish in one or more or all of the Atlantic herring fishery zones could be limited. This may occur gradually as the number of vessels fishing in each area and their catches in that area approach its TAC. Other options that will be examined include closing one or more or all areas to new participants before fishing harvest capacity develops that exceeds the TAC for a given area.

The elements that make up a controlled access system will also be open for comment. One or more kinds of permits may be issued to one or more of the management areas. Qualification criteria will be established to determine who gets a permit to fish in one or more areas. The criteria can take many different forms. For example, it could be based on catches over a period of time, on possession of another permit, or on future performance.

A controlled access system may also contain other means of managing fishing mortality, for example, implementing such limits on fishing effort as the number of days vessels can fish, catch limits, or gear restrictions, each with or without the TACs now in place. Another alternative is to establish an individual quota system. Under this system, a specific share of the TAC is assigned to a vessel, person, or community; in some systems, these shares can be purchased or traded. Because of possible different objectives for each management area, some elements of a controlled access system for one area might be different from those in another area.

Comments Requested

The Council and the Commission are particularly interested in answers to the following questions:

(1) Should there be a limited entry or controlled access system in the Atlantic herring fishery?

(2) If there is a limited entry or controlled access system, should it be adopted for the entire fishery or only for certain management areas?

(3) When should the limited entry or controlled access system become effective? Should it become effective on different dates in different areas?

(4) In a limited entry or controlled access system, what type of qualification criteria should be used to determine who receives a limited entry permit? For example, should permits be issued based on past landings or on a vessel holding another permit?

(5) If past landings are used to determine who qualifies for a permit, what should the level of landings be to qualify? What is the appropriate time period to be examined?

(6) What types of permit categories should be considered? For example, should there be directed fishery permits and incidental catch permits, or different permits for different gear types?

(7) Should permits be freely transferable, or should they be subject to limits?

(8) Should there be upgrading restrictions on permits?

(9) What other management measures, if any, should be included in the limited entry or controlled access system? For example, should days-at-sea limits, trip limits, or gear restrictions be used to further control effort?

(10) Should an individual quota system be part of the controlled access program? (Under current law, an individual quota system may not be submitted to the Secretary for approval and implementation before October 1, 2000.) If an individual quota system is considered,—

(a) How should individual fishing quotas be allocated?

(b) Should they be allocated to vessels, individuals, or communities?

(c) Should there be limits on the transferability of individual fishing quotas?

(d) Should there be limits on how much quota can be obtained by one permit holder?

(e) How should present and historical participation in the fishery be considered?

(f) If an individual fishing quota program is developed, how should effective enforcement, management, and observer coverage be provided, and how should fees to recover actual enforcement and management costs be structured?

(g) If an individual fishing quota is developed, how should a portion of the annual harvest be allocated to entry level fishermen, small vessel owners, and crew members who do not qualify for individual quotas?

(11) What communities do you think would be most affected by a limited entry program for Atlantic herring? How would they be affected?

(12) What social and/or cultural factors within these communities should the Council consider when developing a limited access program for Atlantic herring?

(13) What do you think are the potential social impacts (negative and/or positive) of a limited access program for Atlantic herring?

Scoping Process

All persons affected by or otherwise interested in herring fisheries management are invited to participate in determining the scope and significance of issues to be analyzed by submitting written comments (see ADDRESSES) or by attending one of the scoping hearings. Scope consists of the range of actions, alternatives, and impacts to be considered. Alternatives include the following: Not amending the management plan (taking no action), developing an amendment that contains such management measures as the ones previously mentioned in this notice, or other reasonable courses of action. Impacts may be direct, individual, or cumulative. The scoping process will also identify and eliminate from detailed study issues that are not significant. If, after the scoping process is completed, the Council proceeds with the development of an amendment to the FMP, the Council will prepare an SEIS or Environmental Assessment, as appropriate, depending on the nature of the amendment to be developed. The Council and the Commission will hold public hearings to receive comments on the draft amendment and on the analysis of its impacts on the human environment.

Public Hearing Schedule

The Council and the Commission will discuss and take scoping comments at public meetings as follows:

Tuesday, February 22, 2000, 7 p.m., Cape May County Extension Office, 355 Courthouse-South Dennis road, Cape May Courthouse, New Jersey. Telephone (609) 465-5115.

Wednesday, February 23, 2000, 1 p.m., Trade Winds Hotel, 2 Park Drive, Rockland, ME 04841. Telephone (207) 596-6661.

Thursday, February 24, 2000, 3 p.m., Radisson Airport Hotel, 2081 Post Road, Warwick, RI 02886. Telephone (401) 739-3000.

Tuesday, February 29, 2000, 3 p.m. King's Grant Inn, Trask Road, Route 128, Exit 21N, Danvers, MA 01923. Telephone (978) 774-6800.

Special Accommodations

The meetings are physically accessible to people with disabilities. Requests for sign language interpretation or other auxiliary aids should be directed to Paul J. Howard (see ADDRESSES) at least 5 days prior to this meeting date.

Authority: 16 U.S.C. 1801 et seq.

Dated: February 4, 2000.
Bruce C. Morehead,
Acting Director, Office of Sustainable Fisheries, National Marine Fisheries Service.

[FR Doc. 00-3005 Filed 2-9-00; 8:45 am]

BILLING CODE 3510-22-F